DEPARTMENT OF COMMERCE

National Oceanic and Atmospheric Administration

RIN 0648-XC073

Fishing Capacity Reduction Program for the Southeast Alaska Purse Seine Salmon Fishery

AGENCY: National Marine Fisheries Service (NMFS), National Oceanic and Atmospheric Administration (NOAA), Commerce.

ACTION: Notice of industry fee collection system effective date.

SUMMARY: NMFS issues this notice to establish the effective date of fees to repay the $13,133,030 reduction loan to finance a fishing capacity reduction program in the Southeast Alaska purse seine salmon fishery. NMFS conducted a referendum to approve the reduction loan repayment fees of $13,133,030 to remove 64 permits, which post-reduction harvesters will repay over a 40-year period. NMFS has tendered reduction payments to the selected bidders.

DATES: Fee payment collection will begin on July 22, 2012.

ADDRESSES: Send comments about this notice to Paul Marx, Chief, Financial Services Division, NMFS, Attn: SE Alaska Purse Seine Salmon Buyback, 1315 East-West Highway, Silver Spring, MD 20910 (see FOR FURTHER INFORMATION CONTACT).

FOR FURTHER INFORMATION CONTACT: Michael A. Sturtevant at (301) 427-8799, fax (301) 713-1306, or Michael.A.Sturtevant@noaa.gov.

SUPPLEMENTARY INFORMATION:

I. Background

The Southeast Alaska purse seine salmon fishery is a commercial fishery in Alaska State waters and adjacent Federal waters. It encompasses the commercial taking of salmon with purse seine gear, and participation is limited to fishermen designated by the Alaska Commercial Fisheries Entry Commission (CFEC).

NMFS published proposed program regulations on May 23, 2011 (76 FR 29707), and final program regulations on October 6, 2011 (76 FR 61985), to implement the reduction program. Subsequently, the Southeast Revitalization Association submitted a capacity reduction plan to NMFS. NMFS approved the plan on February 24, 2012. NMFS published the list of eligible voters on March 1, 2012 (77 FR 12568) and the notice of referendum period on March 29, 2012 (77 FR 19004). Interested persons should review these for further program details.

NMFS conducted a referendum to determine the industry's willingness to repay a fishing capacity reduction loan to purchase the permits identified in the reduction plan. NMFS mailed ballots to 379 permanent permit holders in the fishery designated as S01A by CFEC who were eligible to vote in the referendum. The voting period opened on March 30, 2012, and closed on April 30, 2012. NMFS received 269 timely and valid votes. Two hundred and fifteen of the permit holders voted in favor of the program and the reduction loan repayment fees. This exceeded the majority of permit holders (190) required for industry fee system approval.

On May 7, 2012, NMFS published another Federal Register document (77 FR 26744) advising the public that NMFS would tender the program's reduction payments to the 64 selected bidders who would permanently stop fishing with the permits they had relinquished in return for reduction payments. Subsequently, NMFS disbursed $13,133,030 in reduction payments to the 64 selected bidders.

II. Purpose

This document's purpose is to establish the reduction loan repayment fee's effective date in accordance with subpart M to 50 CFR 600.1107.

III. Notice

Southeast Alaska purse seine salmon program fee payment and collection will begin on July 22, 2012. Starting on this date, all harvesters of Southeast Alaska purse seine salmon (designated as S01A by CFEC) must pay the fee in accordance with the applicable regulations. All fish buyers of Southeast Alaska purse seine salmon must collect the fee in accordance with the applicable regulations.

The initial fee applicable to the Southeast Alaska purse seine salmon program's reduction fishery is 3.00% of landed value and any subsequent bonus payments. Fish sellers and fish buyers must pay and collect the fee in the manner set out in 50 CFR 600.1107 and the framework rule. Consequently, all harvesters and fish buyers should read subpart L to 50 CFR 600.1013 to understand how fish harvesters must pay and fish buyers must collect the fee.

Dated: July 10, 2012.
Cherish Johnson,
Acting Director, Office of Management and Budget, National Marine Fisheries Service.

[FR Doc. 2012-17255 Filed 7-13-12; 8:45 am]

BILLING CODE 3510-22-P